DEPARTMENT OF DEFENSE

Office of the Secretary; Submission for OMB Review; Comment Request

ACTION: Notice.

DATES: Consideration will be given to all comments received by April 13, 2002.

SUMMARY: The Department of Defense has submitted to OMB for clearance, the following proposal for collection of information under the provisions of the Paperwork Reduction Act (44 U.S.C. Chapter 35).

Title and OMB Number: Defense Suppliers Customer Satisfaction Diagnostic Survey; OMB Number 0704-[To Be Determined].

Type of Request: New Collection.

Number of Respondents: 380.

Responses per Respondent: 1.

Annual Responses: 380.

Average Burden per Response: 15 minutes.

Annual Burden Hours: 95.

Needs and Uses: The information collection is necessary to determine the reasons for supplier satisfaction/dissatisfaction with Defense acquisition processes. The information will be used to improve Defense acquisition processes to assure supplier satisfaction. Feedback from suppliers will be used to formulate policies, programs and practices for improving the level of supplier satisfaction. A web-based survey is planned for the supplier diagnostic survey. The survey instrument will be posted on the web, and suppliers will be sent invitations via e-mail to access the Web site and complete the survey instrument.

Affected Public: Business or Other For-Profit.

Frequency: Annually.

Respondent's Obligation: Voluntary.

OMB Desk Officer: Ms. Jackie Zeiher.

Written comments and recommendations on the proposed information collection should be sent to Ms. Zeiher at the Office of Management and Budget, Desk Officer for DoD, Room 10236, New Executive Office Building, Washington, DC 20503.

DoD Clearance Officer: Mr. Robert Cushing.

Written requests for copies of information collection proposal should be sent to Mr. Cushing, WHS/DIOR, 1215 Jefferson Davis Highway, Suite 1204, Arlington, VA 22202-4302.

Dated: February 25, 2002.
Patricia L. Toppings,
Alternate OSD Federal Register Liaison Officer, Department of Defense.

[FR Doc. 02-4982 Filed 3-1-02; 8:45 am]

BILLING CODE 5000-08-M